FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 19, 2019.

A. Federal Reserve Bank of Minneapolis (Mark A. Rauzi, Vice President), 90 Hennepin Avenue, Minneapolis, Minnesota 55480-0291:

1. Scott Kopp, Galesville, Wisconsin, individually and acting in concert with Steve Kopp, LaCrosse, Wisconsin, and Mark Copp, Galesville, Wisconsin; all to retain shares of Gale Bank Holding Company, Inc., and thereby indirectly retain shares of Bluff View Bank, both in Galesville, Wisconsin.

Board of Governors of the Federal Reserve System, January 29, 2019.
Yao-Chin Chao,
Assistant Secretary of the Board.

[FR Doc. 2019-00778 Filed 1-31-19; 8:45 am]

BILLING CODE 6210-01-P